FEDERAL COMMUNICATIONS COMMISSION

47 CFR Part 73

[FCC 11-73; MM Docket No. 00-148; RM-9939, RM-10198]

Radio Broadcasting Services; Oklahoma and Texas

AGENCY: Federal Communications Commission.

ACTION: Final rule; application for review.

SUMMARY: This document denies the Application for Review filed by Rawhide Radio, LLC, Capstar TX Limited Partnership, Clear Channel Broadcasting Licenses, Inc., and CCB Texas Licenses, L.P. (“Joint Petitioners”) of the dismissal of a second alternative proposal to their Counterproposal in this proceeding because it was technically defective.

FOR FURTHER INFORMATION CONTACT: Peter H. Doyle, Chief, Audio Division, Media Bureau, (202) 418-2700, or Andrew J. Rhodes, Audio Division, Media Bureau, (202) 418-2180.

SUPPLEMENTARY INFORMATION: This is a synopsis of the Commission's Memorandum Opinion and Order, MM Docket No. 00-148, adopted May 5, 2011, and released May 6, 2011. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com.

A Notice of Proposed Rule Making (“NPRM”) in this proceeding proposed the allotment of a new FM channel at Quanah, Texas. See 65 FR 53689 (September 5, 2000). In response to the NPRM, the Joint Petitioners filed a mutually exclusive Counterproposal involving 22 communities in Texas and Oklahoma, as well as two alternative proposals. The staff dismissed the original Counterproposal and the first alternative proposal for technical defects, and these actions are not contested by the Joint Petitioners. See 68 FR 26557 (May 16, 2003). The Joint Petitioners seek review of the dismissal of the second alternative proposal in the Memorandum Opinion and Order in this proceeding on the grounds that it was a technically acceptable proposal and that the staff should have made it the subject of a separate Notice of Proposed Rule Making. See 69 FR 29242 (May 21, 2004).

The document reasons that, contrary to the Joint Petitioners' contention, the second alternative proposal had two fatal defects that prevented its consideration as either a rule making petition or a counterproposal. Specifically, one of the proposed allotments conflicted with a previously filed, cut-off allotment proposal in another proceeding and was impermissibly contingent upon the staff's approval of a request to withdraw that proposal. Another proposed reallotment had an unsuitable transmitter site located in or near the Colorado River. Because counterproposals must be technically correct and substantially complete when filed, the second alternative proposal was properly dismissed. To the extent that curative amendments have been allowed in some cases, the document finds that this practice has been inconsistently applied and the public interest is better served by no longer entertaining curative amendments for counterproposals or FM allotment rule making proposals.

The Commission will not send a copy of this Memorandum Opinion and Order to Congress and the Government Accountability Office pursuant to the Congressional Review Act, see 5 U.S.C. 801(a)(1)(A), because the Application for Review was denied.

Provisions of the Regulatory Flexibility Act of 1980 do not apply to this proceeding. See 46 FR 11549 (February 9, 1981).

Federal Communications Commission.
Marlene H. Dortch,
Secretary.

[FR Doc. 2011-17103 Filed 7-18-11; 8:45 am]

BILLING CODE 6712-01-P